DEPARTMENT OF THE INTERIOR

National Park Service

[NPS-SER-FOMA-08530;5017-7143-409]

DRAFT General Management Plan and Draft Environmental Impact Statement, Fort Matanzas National Monument, Florida

AGENCY: National Park Service, Interior.

ACTION: Notice of Availability of the Draft General Management Plan and Environmental Impact Statement.

SUMMARY: Pursuant to the National Environmental Policy Act of 1969, 42 U.S.C. 4332(2)(C), the National Park Service (NPS) announces the availability of a draft Environmental Impact Statement (EIS) for the General Management Plan (GMP) for Fort Matanzas National Monument (Monument), Florida.

Consistent with NPS laws, regulations, and policies and the purpose of the Monument, the draft EIS/GMP describes the NPS preferred alternative—Alternative B—to guide the management of the Monument over the next 15 to 20 years. The preferred alternative incorporates various management prescriptions to ensure protection, access and enjoyment of the Monument's resources.

An up-to-date GMP is needed to address how visitors access and use the Monument and the facilities needed to support those uses, how resources are managed, and how the NPS manages its operations. Recent studies have enhanced the NPS's understanding of resources, resource threats, and visitor use in the Monument.

DATES: The NPS will accept comments from the public on the draft EIS/GMP for at least 60 days, starting from the date the Environmental Protection Agency publishes this Notice of Availability. The date, time, and location of the public meetings on the draft EIS/GMP will be announced through the NPS Planning, Environment, and Public Comment (PEPC) Web site: http://parkplanning.nps.gov/FOMA and media outlets.

ADDRESSES: Electronic copies of the draft EIS/GMP will be available online at http://parkplanning.nps.gov/FOMA. To request a copy, contact Fort Matanzas National Monument Superintendent Gordie Wilson, One South Castillo Drive, St. Augustine, FL, 32804. Comments may be submitted by several methods. The preferred method is commenting via the internet on the PEPC Web site above. An electronic public comment form is provided on this Web site. You may also mail comments to Superintendent, Fort Matanzas National Monument, One South Castillo Drive, St. Augustine, FL, 32804. Finally, you may hand-deliver comments to the monument. Before including your address, phone number, email address, or other personal identifying information in your comment, please be aware that your entire comment—including your personal identifying information—may be made publicly available at any time. While you can ask us in your comment to withhold your personal identifying information from public review, we cannot guarantee that we will be able to do so. We will always make submissions from organizations or businesses, and from individuals identifying themselves as representatives of or officials of organizations or businesses, available for public inspection in their entirety. A limited number of compact disks and printed copies of the Draft GMP/EIS will be made available at Fort Matanzas National Monument headquarters, 8635 A1A South, St. Augustine, FL 32080.

SUPPLEMENTARY INFORMATION: Public meetings, newsletters, and internet updates have kept the public informed and involved throughout the planning process. The draft GMP provides a framework for management, use, and development of the national park for the next 15 to 20 years. It presents and analyzes three alternatives: Alternative A (no action) provides a baseline for evaluating changes and impacts of the two action alternatives. Alternative B is the NPS Preferred Alternative. It would manage the Monument in a manner consistent with its history as a small military outpost within a sometimes harsh, but beautiful and rich natural environment. There would be minimal development of new facilities. Some expansion of existing parking lots could occur to improve visitor safety by reducing parking on road shoulders during peak periods. There would be increased emphasis on the interpretation of the natural environment. Driving on the Atlantic Ocean beach of Anastasia Island would continue to be prohibited in accordance with NPS regulation. Alternative B provides a higher level of resource protection than Alternative C. Alternative C would focus on interpretive and educational opportunities on the north end of the Anastasia Island (west of Highway A1A) section of the park, concentrating on the New Deal era visitor center and the land donations and other activities of St. Augustine organizations to restore and commemorate the Fort for local residents and tourists. The central and southern ends of Anastasia Island and the east side of Highway A1A would continue to be managed to protect and conserve the natural resources of the zone. Some additional land on the west side of Highway A1A would be available for trail development. In addition, following approval of the GMP, the NPS would seek to promulgate of a special regulation to allow driving on part of the Atlantic Ocean Beach of Anastasia Island. This process would include an Off Road Vehicle Plan and Environmental Impact Statement. Alternative C provides a higher level of recreational opportunities than Alternative B. The three alternatives are described in detail in chapter 2 of the draft plan. The key impacts of implementing the three alternatives are detailed in chapter 4 and summarized in chapter 2.

FOR FURTHER INFORMATION CONTACT: Fort Matanzas National Monument Superintendent Gordie Wilson, One South Castillo Drive, St. Augustine, FL 32804 or telephone at (904) 829-6506, ext. 221.

The responsible official for this Draft EIS is the Regional Director, NPS Southeast Region, 100 Alabama Street SW., 1924 Building, Atlanta, Georgia 30303.

Dated: June 12, 2012.
Gordon Wissinger,
Acting Regional Director, Southeast Region.

[FR Doc. 2012-14899 Filed 6-18-12; 8:45 am]

BILLING CODE 4312-76-P